DEPARTMENT OF THE INTERIOR

Bureau of Safety and Environmental Enforcement

Ocean Energy Safety Advisory Committee (OESC); Notice of Meeting

AGENCY: Bureau of Safety and Environmental Enforcement (BSEE), Interior.

ACTION: Notice of meeting.

SUMMARY: OESC will meet at the Department of the Interior's South Interior Building in Washington, DC.

DATES: Monday, November 7, 2011, from 1 p.m. to 5 p.m. and Tuesday, November 8, 2011, from 8 a.m. to 5 p.m.

ADDRESSES: South Interior Building Auditorium, 1951 Constitution Avenue, NW., Washington, DC 20240.

FOR FURTHER INFORMATION CONTACT: Mr. Joseph R. Levine at the Bureau of Safety and Environmental Enforcement, 381 Elden Street, Herndon, Virginia 20170-4187. He can be reached by telephone at (703) 787-1033 or by electronic mail at joseph.levine@bsee.gov.

SUPPLEMENTARY INFORMATION: OESC consists of representatives from industry, Federal Government agencies, non-governmental organizations, and the academic community. It provides policy advice to the Secretary of the Interior through the Director of BSEE on matters relating to ocean energy safety, including, but not limited to drilling and workplace safety, well intervention and containment, and oil spill response.

The agenda for Monday, November 7, will address the progress on OESC outreach to the academic community and the states. The OESC Subcommittees will report on their progress to date on their interim recommendations on oil spill prevention, containment, spill response and safety management systems for the OESC's consideration and action.

The agenda for Tuesday, November 8, will address BSEE's incident data analysis; development and implementation of safety and environmental management systems from the perspective of major and independent operators; a summary of the findings of the Deepwater Horizon Joint Investigation Team; draft American Petroleum Institute (API) standards Deepwater Well Design and Construction (API Recommended Practice 96) and Well Construction Interface Document Guidelines (API Bulletin 97); and BSEE's proposed rule on revisions to safety and environmental management systems.

The meeting is open to the public. Approximately 90 visitors can be accommodated on a first-come-first-served basis. Please be aware that the South Interior Building is a Federal Government facility and Government issued picture identification must be presented to enter the building. Members of the public will have the opportunity to comment on a first-come-first-served basis during the time allotted for public comment and may submit written comments to the OESC during the meeting or by e-mail to the Committee at OESC@boemre.gov.

Minutes of the OESC meeting will be available for public inspection on the Committee's Web site at: http://www.boemre.gov/mmab/EnergySafety.htm.

Authority: Federal Advisory Committee Act, Pub. L. No. 92-463, 5 U.S.C. Appendix 1, and the Office of Management and Budget's Circular No. A-63, Revised.

Dated: October 12, 2011.
Michael R. Bromwich,
Director, Bureau of Safety and Environmental Enforcement.

[FR Doc. 2011-26945 Filed 10-17-11; 8:45 am]

BILLING CODE 4310-MR-P